INTERNATIONAL TRADE COMMISSION

[Investigation No. 701-TA-650-651 (Final) (Remand)]

Phosphate Fertilizers From Morocco and Russia; Notice of Remand Proceedings; Correction

AGENCY: U.S. International Trade Commission.

ACTION: Notice; correction.

SUMMARY: Correction is made to the effective date.

SUPPLEMENTARY INFORMATION:

Correction

In the Federal Register of October 27, 2023 (88 FR 73873) in FR Doc. 2023-23774, on page 73873, in the first column, in the Dates section, the date should be October 23, 2023.

Issued: October 27, 2023.
Katherine Hiner,
Supervisory Attorney.

[FR Doc. 2023-24182 Filed 11-1-23; 8:45 am]

BILLING CODE 7020-02-P